DEPARTMENT OF THE INTERIOR

National Park Service

[NPS-WASO-NRNHL-DTS#-34736; PPWOCRADI0, PCU00RP14.R50000]

National Register of Historic Places; Notification of Pending Nominations and Related Actions

AGENCY: National Park Service, Interior.

ACTION: Notice.

SUMMARY: The National Park Service is soliciting electronic comments on the significance of properties nominated before October 8, 2022, for listing or related actions in the National Register of Historic Places.

DATES: Comments should be submitted electronically by November 7, 2022.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before October 8, 2022. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

KEY: State, County, Property Name, Multiple Name (if applicable), Address/Boundary, City, Vicinity, Reference Number.

ALABAMA

Covington County

Andalusia Commercial Historic District (Boundary Increase and Decrease), Court Sq., O'Neal Ct., Central, Church, Coffee, North Cotton, South Cotton, Crescent, Dunson, Historic Central, Pear, East Three Notch, and South Three Notch Sts., Andalusia, BC100008373

IOWA

Cerro Gordo County

Mason City Engine House No. 2, 2020 South Federal Ave., Mason City, SG100008368

Lee County

Case, Hosea S. and Elizabeth, House, 1452 280th Ave., Denmark, SG100008390

Linn County

Cornell College-Mount Vernon Historic District (Boundary Increase), Bounded by RR tracks, College Blvd., North 10th, North 8th, and South 3rd Aves., North. 2nd and South. 4th Sts., Mount Vernon, BC100008370

NEW YORK

Broome County

Cameo Theatre, 234 Robinson St., Binghamton, SG100008388

Ontario County

Naples Viniculture Historic District, Portions of North Main St., Tobey St., and West Ave., Naples, SG100008381

Schenectady County

Elmer Avenue School, 90 Elmer Ave., Schenectady, SG100008387

Warren County

Three Squares Historic District (Boundary Increase and Decrease), (Glens Falls MRA), Roughly bounded by Broad, Maple, Pine, and Glen (US 9) Sts., Glens Falls, BC100008374

Wayne County

Shipley, Isaac, House, 7470 Lake Ave., Williamson vicinity, SG100008383

OHIO

Delaware County

Cleveland, Columbus, Cincinnati & Indianapolis Railroad Depot, 60 Lake St., Delaware, SG100008393

OREGON

Multnomah County

Eastmoreland Historic District, (Historic Residential Suburbs in the United States, 1830-1960 MPS), Generally bounded by SE Woodstock Blvd., Eastmoreland Golf Course, Johnson Cr., and SE Crystal Springs Blvd., Portland, MP100008367

PENNSYLVANIA

Centre County

Marsh Creek Advent Church, 1303 Moose Run Rd., Bellefonte, SG100008385

Luzerne County

Fort Pittston School, (Educational Resources of Pennsylvania MPS), 255 North Main St., Pittston, MP100008384

SOUTH DAKOTA

Clay County

Jacobson, Basil H. & Frances, House, 1101 James St., Vermillion, SG100008376

Jolley Historic District, Roughly bounded by East Main, South Pine, East Lewis, East Canby, and South Harvard St., Vermillion, SG100008377

TENNESSEE

Monroe County

Akins House, Citico Rd., Vonore, SG100008378

Rutherford County

Cemetery School, Mt. Olive Rd., Murfreesboro, SG100008375

Shelby County

Audubon Park Historic District, 750 Cherry Rd., Memphis, SG100008389

VIRGINIA

New Kent County

South Garden, 6331 Pocahontas Trail, Providence Forge, SG100008391

Staunton Independent City, Goodloe House, 25 Ridgeview Rd., Staunton, SG100008392

WEST VIRGINIA

Ohio County

Virginia Apartments, 902 Main St., Wheeling, SG100008380

WISCONSIN

Marinette County

SIDNEY O. NEFF Shipwreck (steambarge), (Great Lakes Shipwreck Sites of Wisconsin MPS), .35 mi. southwest of the Marinette Harbor entrance in Green Bay, Marinette vicinity, MP100008394

Additional documentation has been received for the following resources:

ALABAMA

Covington County

Andalusia Commercial Historic District (Additional Documentation), Court Sq., O'Neal Ct., Central, Church, Coffee, North Cotton, South Cotton, Crescent, Dunson, Historic Central, Pear, East Three Notch, and South Three Notch Sts., Andalusia, AD88003238

IOWA

Greene County

Jefferson Square Commercial Historic District (Additional Documentation), Courthouse Sq. East Lincoln Way, and the 100 blks. of North Wilson, North Chestnut, East State and the NW and NE 1/4 blocks, & 115 South Wilson Sts., Jefferson, AD11000503

Linn County

Cornell College-Mount Vernon Historic District (Additional Documentation), Bounded by RR tracks, College Blvd., North 10th, North 8th, and South 3rd Aves., North. 2nd and South. 4th Sts., Mount Vernon, AD80001456

Authority: Section 60.13 of 36 CFR part 60.

Dated: October 12, 2022.
Sherry A. Frear,
Chief, National Register of Historic Places/National Historic Landmarks Program.

[FR Doc. 2022-22832 Filed 10-20-22; 8:45 am]

BILLING CODE 4312-52-P